SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 20, 2006.

ADDRESSES: Send all comments regarding whether this information collection is necessary for the proper performance of the function of the agency, whether the burden estimates are accurate, and if there are ways to minimize the estimated burden and enhance the quality of the collection, to Gary Jackson, Assistant Administrator, Office of Size Standards, Small Business Administration, 409 3rd Street, SW., Suite 8800, Washington, DC 20416.

FOR FURTHER INFORMATION CONTACT: Gary Jackson, Assistant Administrator, Office of Size Standards, 202-205-6464, gary.jackson@sba.gov. Curtis B. Rich, Management Analyst, 202-205-7030, curtis.rich@sba.gov.

SUPPLEMENTARY INFORMATION:

Title: “Application for Small Business Size Standards”.

Description of Respondents: Small Businesses.

Form No.: 355.

Annual Responses: 10,500.

Annual Burden: 42,000.

ADDRESSES: Send all comments regarding whether this information collection is necessary for the proper performance of the function of the agency, whether the burden estimates are accurate, and if there are ways to minimize the estimated burden and enhance the quality of the collection, to Cynthia Pitts, Office of Disaster Assistance, Administrative Officer, Small Business Administration, 409 3rd Street, SW., Suite 6000, Washington, DC 20416.

FOR FURTHER INFORMATION CONTACT: Cynthia Pitts, Administrative Officer, Office of Disaster Assistance, 202-205-7570, cynthia.pitts@sba.gov. Curtis B. Rich, Management Analyst, 202-205-7030, curtis.rich@sba.gov.

SUPPLEMENTARY INFORMATION:

Title: “Governor's Request for Disaster Declaration”.

Description of Respondents: Victims in Presidential Declared Disaster.

Form No.: N/A.

Annual Responses: 47.

Annual Burden: 940.

ADDRESSES: Send all comments regarding whether this information collection is necessary for the proper performance of the function of the agency, whether the burden estimates are accurate, and if there are ways to minimize the estimated burden and enhance the quality of the collection, to Patricia Branch, Office of Procurement and Grants Management, Grants Management Specialist, Small Business Administration, 409 3rd Street, SW., Suite 5000, Washington, DC 20416.

FOR FURTHER INFORMATION CONTACT: Patricia Branch, Grants Management Specialist, Office of Procurement and Grants Management, 202-205-7081, patricia.branch@sba.gov. Curtis B. Rich, Management Analyst, 202-205-7030, curtis.rich@sba.gov.

SUPPLEMENTARY INFORMATION: Title: “Notice of Award and Grant/Cooperative Agreement Cost Sharing Proposal”.

Description of Respondents: Participating Colleges.

Form No.: 1222.

Annual Responses: 2,526.

Annual Burden: 202,080.

ADDRESSES: Send all comments regarding whether this information collection is necessary for the proper performance of the function of the agency, whether the burden estimates are accurate, and if there are ways to minimize the estimated burden and enhance the quality of the collection, to Darryl Glover, Office of Small Business Administration, 409 3rd Street, SW., Suite 6000, Washington, DC 20416.

FOR FURTHER INFORMATION CONTACT: Darryl Glover, Grants Management Specialist, Office of Small Business Development Centers, 202-205-7306, darryl.glover@sba.gov. Curtis B. Rich, Management Analyst, 202-205-7030, curtis.rich@sba.gov.

SUPPLEMENTARY INFORMATION: Title: “Grant Cooperative Agreement Cost Sharing Proposal”.

Description of Respondents: Grants Management Offices.

Form No.: 1224.

Annual Responses: 2,526.

Annual Burden: 202,080.

Jacqueline White,
Chief, Administrative Information Branch.

[FR Doc. E6-514 Filed 1-18-06; 8:45am]

BILLING CODE 8025-01-P